FEDERAL COMMUNICATIONS COMMISSION

Public Information Collections Approved by Office of Management and Budget

February 6, 2004.

SUMMARY: The Federal Communications Commission (FCC) has received Office of Management and Budget (OMB) approval for the following public information collections pursuant to the Paperwork Reduction Act of 1995, Public Law 104-13. An agency may not conduct or sponsor and a person is not required to respond to a collection of information unless it displays a currently valid control number.

FOR FURTHER INFORMATION CONTACT: Paul J. Laurenzano, Federal Communications Commission, 445 12th Street SW., Washington, DC 20554, (202) 418-1359 or via the Internet at plaurenz@fcc.gov.

SUPPLEMENTARY INFORMATION:

OMB Control No.: 3060-0292.

OMB Approval date: 1/30/2004.

Expiration Date: 1/31/2007.

Title: Part 69—Access Charges.

Form No.: N/A.

Estimated Annual Burden: 5,832 responses; 27,702 total annual hours; 4-5 hours per respondent.

Needs and Uses: Part 69 of the Commission's rules and regulations establishes the rules for access charges for interstate or foreign access provided by telephone companies. Local telephone companies and states are required to submit information to the Commission and/or the National Exchange Carrier Association. The information is used to compute charges in tariffs for access service (or origination and termination) and to computer revenue pool distributions.

OMB Control No.: 3060-0743.

OMB Approval date: 1/08/2004.

Expiration Date: 1/31/2007.

Title: Implementation of the Pay Telephone Reclassification and Compensation Provisions of the Telecommunication Act of 1996, CC Docket No. 96-128.

Form No.: N/A.

Estimated Annual Burden: 6,345 responses; 152,801 total annual hours; 24 hours per respondent.

Needs and Uses: In CC Docket No. 96-128, the Commission promulgated rules and requirements implementing Section 276 of the Telecommunications Act of 1996. Among other things, the rules: (1) Establish fair compensation for every completed intrastate and interstate payphone call; (2) discontinue intrastate and interstate access charge payphone service elements and payments, and intrastate and interstate payphone subsidies from basic exchange services; and (3) adopt guidelines for use by the states in establishing public interest payphones to be located where there would otherwise not be a payphone.

OMB Control No.: 3060-0782.

OMB Approval date: 1/23/2004.

Expiration Date: 1/31/2007.

Title: Petition for Limited Modification of LATA Boundaries to Provide Expanded Local Calling Service (ELCS) at Various Locations.

Form No.: N/A.

Estimated Annual Burden: 100 responses; 800 total annual hours; 80 hours per respondent.

Needs and Uses: The Commission has provided voluntary guidelines for filing expanded local calling service requests. These guidelines will allow the Commission to conduct smooth and continuous processing of these requests. The collection of information will enable the Commission to determine if there is a public need for expanded local calling service in each area subject to the request.

OMB Control No.: 3060-0786.

OMB Approval date: 1/23/2004.

Expiration Date: 1/31/2007.

Title: Petitions for LATA Association Changes by Independent Telephone Companies.

Form No.: N/A.

Estimated Annual Burden: 20 responses; 120 total annual hours; 60 hours per respondent.

Needs and Uses: The commission has provided voluntary guidelines for filing LATA association change requests. These guidelines will allow the Commission to conduct smooth and continuous processing of these requests. The collection of information will enable the Commission to determine if there is a public need for changes in LATA association in each area subject to the request.

OMB Control No.: 3060-0816.

OMB Approval date: 1/30/2004.

Expiration Date: 1/31/2007.

Title: Local Competition and Broadband Reporting, CC Docket No. 99-301.

Form No.: FCC—477.

Estimated Annual Burden: 858 responses; 45,278 total annual hours; 53 hours per respondent.

Needs and Uses: FCC Form 477 seeks to gather information on the development of local competition and deployment of broadband service also known as advanced telecommunications services. The data are necessary to evaluate the status of developing competition in local exchange telecommunications markets and to evaluate the status of broadband deployment. The information is used by Commission staff to advise the Commission about the efficacy of Commission rules and policies adopted to implement the Telecommunications Act of 1996.

OMB Control No.: 3060-0853.

OMB Approval date: 1/26/2004.

Expiration Date: 1/31/2007.

Title: Receipt of Service Confirmation Form; Certification by Administrative Authority to Billed Entity of Compliance with Children's Internet Protection Act—Universal Service for Schools and Libraries; Certifications for Libraries Unwilling to Make a CIPA Cert. for 2003.

Form No.: FCC-479, FCC-486, FCC-486T.

Estimated Annual Burden: 40,000 responses; 75,000 total annual hours; 1-2 hours per respondent.

Needs and Uses: Following a district court decision that portions of CIPA were unconstitutional, the Commission modified FCC Forms 479 and 486 to remove certain language from the certifications for libraries. The Supreme Court reversed the district court decision and the Commission must revise the forms to enable libraries to certify their compliance with CIPA. The Commission will include FCC Form 486t, a one-page form, to be completed by libraries that do not intend to comply with CIPA, but wish to receive support for the month and half of Funding Year 2003 during which CIPA was not enforced against libraries. FCC Form 486t will not effect the burden or the number of respondents because respondents will file either FCC Form 486 or FCC Form 486t. FCC Form 486t will only be valid for Funding Year 2003. The Commission is requesting contact information to conform with the contact information requested in other Schools and Libraries Universal Service forms.

OMB Control No.: 3060-0856.

OMB Approval date: 1/26/2004.

Expiration Date: 1/31/2007.

Title: Universal Service—Schools and Libraries Universal Service Program Reimbursement Forms.

Form No.: FCC-472, FCC-473, FCC-474.

Estimated Annual Burden: 39,300 responses; 58,950 total annual hours; 1.5 hours per respondent.

Needs and Uses: The Telecommunications Act of 1996 contemplates that discounts on eligible services shall be provided to schools and libraries, and that service providers shall seek reimbursement of the amount of the discounts. FCC Forms 473 and 474 facilitate the reimbursement process. FCC Form 472 allows providers to confirm that they are actually providing the discounted services to eligible entities.

OMB Control No.: 3060-0952.

OMB Approval Date: 1/08/2004. a

Expiration Date: 1/31/2007.

Title: Proposed Demographic Information and Notifications, Second FNPRM, CC Docket No. 98-147 and Fifth NPRM, CC Docket No. 96-98.

Form No.: N/A.

Estimated Annual Burden: 1,400 response; 5,600 total annual hours; 4 hours per respondent.

Needs and Uses: The proposed requirements implement section 706 of the Communications Act of 1934, as amended, to promote deployment of advanced services without significantly degrading the performance of other services. In CC Docket No. 98-147, the Commission solicits comment on whether requesting carriers should receive demographic and other information from ILECs to determine whether they wish to collocate at particular remote terminals. In CC Docket No. 96-98 comment is sought on whether ILECs should provide certain notifications to competing carriers.

OMB Control No.: 3060-0972.

OMB Approval Date: 1/26/2004.

Expiration Date: 1/31/2007.

Title: Multi-Association Group (MAG) Plan for Regulation of Interstate Services of Non-Price Cap Incumbent Local Exchange Carriers and Interexchange Carriers.

Form No.: FCC-507, FCC-508, FCC-509.

Estimated Annual Burden: 7,594 responses; 31,923 total annual hours; 3-5 hours per respondent.

Needs and Uses: The Commission modfied the reporting requirements associated with the Interstate Common Line Support mechanism in order to reduce the burdens associated with the requirements and increase the accuracy of data reported.

OMB Control No.: 3060-1051.

OMB Approval Date: 1/30/2004.

Expiration Date: 1/31/2007.

Title: Certification Letter Accounting for Receipt of Federal Support—CC Docket Nos. 96-45 and 96-262.

Form No.: N/A.

Estimated Annual Burden: 52 responses; 56 total annual hours; 1 hour per respondent.

Needs and Uses: The Commission requires states to certify that carriers within the state had accounted for its receipt of federal support in its rates or otherwise used the support pursuant with Section 254 (e). In the Further Notice of Proposed Rulemaking, the Commission seeks comment to further develop the record on specific issues that relate to the rate review and expanded state certification process recommended by the Joint Board. The Commission also seeks comment on a proposal to further encourage states to preserve and advance universal service by making available additional targeted federal support for high-cost wire centers in states that implement explicit universal service mechanisms.

Federal Communications Commission.
Marlene H. Dortch,
Secretary.

[FR Doc. 04-3239 Filed 2-12-04; 8:45 am]

BILLING CODE 6712-01-P